DEPARTMENT OF AGRICULTURE

Animal and Plant Health Inspection Service

[Docket No. 04-136-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the Cooperative State-Federal Bovine Tuberculosis Eradication Program.

DATES: We will consider all comments that we receive on or before April 18, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-136-1, Regulatory Analysis and Development, PPD, APHIS, Station 3C71, 4700 River Road Unit 118, Riverdale, MD 20737-1238. Please state that your comment refers to Docket No. 04-136-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information regarding the Cooperative State-Federal Bovine Tuberculosis Eradication Program, contact Dr. Michael Dutcher, National Tuberculosis Program Coordinator, Eradication and Surveillance Team, National Center for Animal Health Programs, VS, APHIS, 4700 River Road Unit 43, Riverdale, MD 20737; (301) 734-5467. For copies of more detailed information on the information collection, contact Mrs. Celeste Sickles, APHIS” Information Collection Coordinator, at (301) 734-7477.

SUPPLEMENTARY INFORMATION: Title: Tuberculosis.

OMB Number: 0579-0084.

Type of Request: Extension of approval of an information collection.

Abstract: The Animal and Plant Health Inspection Service (APHIS) of the United States Department of Agriculture is responsible for, among other things, preventing the interstate spread of serious diseases and pests of livestock, and for eradicating such diseases from the United States when feasible.

In connection with this mission, APHIS participates in the Cooperative State-Federal Bovine Tuberculosis Eradication Program, which is a national program to eliminate bovine tuberculosis from the United States. Bovine tuberculosis is a serious disease of livestock that also affects humans through contact with infected animals or their byproducts

The Cooperative State-Federal Bovine Tuberculosis Eradication Program is conducted under the various States' authorities supplemented by Federal regulations on the interstate movement of affected animals. A concerted effort (State and Federal) requires that we conduct epidemiologic investigations to locate the disease and provide an effective means of controlling it. Federal regulations also provide for the payment of indemnity to owners of animals that must be destroyed because of tuberculosis.

This program necessitates the use of a number of information-gathering documents, including various forms needed to properly identify, test, and transport animals that have been infected with tuberculosis, or that may have been exposed to tuberculosis. We also employ national epidemiology forms for the purposes of recording, reporting, and reviewing epidemiological data. Still other documents provide us with the information we need to pay indemnity to the owners of animals destroyed because of tuberculosis.

The information provided by these documents is critical to our ability to locate herds infected with tuberculosis and to prevent the interstate spread of tuberculosis. The collection of this information is therefore crucial to the success of the Cooperative State-Federal Bovine Tuberculosis Eradication Program.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.324473748 hours per response.

Respondents: State animal health protection personnel, accredited veterinarians, livestock inspectors, shippers, herd owners, and slaughter establishment personnel.

Estimated annual number of respondents: 6,897.

Estimated annual number of responses per respondent: 7.762650427.

Estimated annual number of responses: 53,539.

Estimated total annual burden on respondents: 17,372 hours. (Due to averaging, the total annual burden hours may not equal the product of the annual number of responses multiplied by the reporting burden per response.)

All responses to this notice will be summarized and included in the request for OMB approval. All comments will also become a matter of public record.

Done in Washington DC, this 11th day of February 2005.
Elizabeth E. Gaston,
Acting Administrator, Animal and Plant Health Inspection Service.

[FR Doc. 05-3056 Filed 2-16-05; 8:45 am]

BILLING CODE 3410-34-P